DEPARTMENT OF LABOR

Information Collection Extension Request for the Agricultural and Food Processing Clearance Order (ETA Form 790), and the Agricultural Food Processing Clearance Memorandum (ETA Form 795), Comment Request

AGENCY: Employment and Training Administration, Labor.

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about the recruitment of agricultural workers. In situations where an adequate supply of workers does not exist locally, agricultural employers must use the Agricultural and Food Processing Clearance Order ETA Form 790 to list the job opening with the State Workforce Agencies (SWAs) for recruiting temporary agricultural workers.

The Agricultural and Food Processing Clearance Memorandum, ETA Form 795, is used by SWAs to extend job orders beyond their jurisdictions, give notice of action on a clearance order, request additional information, amend the order, report results, and accept or reject the extended job order.

A copy of the proposed information collection request (ICR) can be obtained by contacting the office listed below in the addressee section of this notice or by accessing: http://www.doleta.gov/OMBCN/OMBControlNumber.cfm.

DATES: Written comments must be submitted to the office listed in the addressee's section below on or before April 13, 2009.

ADDRESSES: Submit written comments to: Alina Walker, U.S. Department of Labor, Employment and Training Administration, Office of Workforce Investment, Division of Adult Services, Migrant and Seasonal Farmworkers, Room S-4209, 200 Constitution Avenue, NW., Washington, DC 20210. Telephone number: 202-693-2706 (this is not a toll-free number). Fax: 202-693-3587. E-mail: walker.alina@dol.gov.

SUPPLEMENTARY INFORMATION:

I. Background

Currently, the Employment and Training Administration (ETA) will solicit comments concerning the extension of the Agricultural and Food Processing Clearance Order Form for Agricultural Recruitment System Affecting Migratory Farmworkers (ETA Form 790), and the Agricultural Food Processing Clearance Memorandum (ETA Form 795), which will expire on August 31, 2009. Documents for this information request can be obtained by contacting the office listed below in the addressee section or by accessing: http://www.doleta.gov/OMBCN/OMBControlNumber.cfm.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions

Type of Review: Extension without changes.

Agency: Employment and Training Administration.

Title: The Agricultural and Food Processing Clearance Order (ETA Form 790), and the Agricultural Food Processing Clearance Memorandum (ETA Form 795).

OMB Number: 1205-0134.

Affected Public: Employers and state, local, and tribal Governments.

Forms: ETA-790 and ETA-795.

Total Respondents: 5,600.

Frequency: On occasion.

Total Annual Responses: 5,600.

Average Time per Response: 60 minutes for ETA-790 and 15 minutes for ETA-795.

Estimated Total Annual Burden Hours: 4,850.

Total Burden Cost (Operating/Maintaining): $0.

Comments submitted in response to this comment request will be summarized and/or included in the request for Office of Management and Budget approval of the information collection request; they will also become a matter of public record.

Signed: At Washington, DC this 5th day of February 2009.
Gay M. Gilbert,
Administrator, Office of Workforce Investment, Employment and Training Administration.

[FR Doc. E9-2968 Filed 2-11-09; 8:45 am]

BILLING CODE 4510-FN-P